NATIONAL ARCHIVES AND RECORDS ADMINISTRATION

[NARA-2017-005]

George W. Bush Presidential Library; Disposal of Presidential Records

AGENCY: National Archives and Records Administration (NARA).

ACTION: Notice of proposed disposal of Presidential records; request for public comment.

SUMMARY: The National Archives and Records Administration (NARA) has identified certain Presidential records from the George W. Bush Presidential Library as appropriate for disposal under the provisions of 44 U.S.C. 2203(f)(3). This notice describes our reasons for determining that these records do not warrant retaining any longer.

This notice does not constitute a final agency action, as described in 44 U.S.C. 2203(f)(3), and we will not dispose of any Presidential records following this notice. After reviewing any comments we receive during this 45-day notice and comment period, we will make a decision on the records. If we decide to dispose of them, we will issue a second, 60-day advance notice, which constitutes a final agency action.

DATES: Comments are due by December 23, 2016.

LOCATION: Submit written comments by mail to Director, Presidential Libraries; National Archives and Records Administration (LP), Suite 2200; 8601 Adelphi Road; College Park, MD 20740-6001, or by fax to 301.837.3199.

FOR FURTHER INFORMATION CONTACT: Susan K. Donius at 301.837.3250.

SUPPLEMENTARY INFORMATION: We propose the following materials for disposal because we have determined that they lack continuing administrative, historical, information, or evidentiary value.

The items identified include (full list below) ephemera located within the Staff Member Office Files and White House Office of Records Management Subject/Alpha Files of the George W. Bush Presidential Library:

NASA Pin

Connecting to Collections Black Shoulder Bag

Metal Edge, Inc. Mini Hollinger

IMLS Level and Tape Measurer

White Cotton Gloves

Faith Bottle

Indian River Community College Educational Program

Honor Cats Banners

Dated: October 25, 2016.
Susan K. Donius,
Director, Office of Presidential Libraries.

[FR Doc. 2016-26952 Filed 11-7-16; 8:45 am]

BILLING CODE 7515-01-P